ADMINISTRATIVE CONFERENCE OF THE UNITED STATES

Committees on Administration and Management, Collaborative Governance, Judicial Review, and Regulation

ACTION: Notice of public meetings.

SUMMARY: Notice is hereby given of public meetings of four committees of the Assembly of the Administrative Conference of the United States (ACUS). Each committee will meet to discuss recommendations for consideration by the full Conference. Complete details regarding each committee's meeting, related research reports, how to attend (including information about remote access and obtaining special accommodations for persons with disabilities), and how to submit comments to the committee can be found in the “Research” section of the ACUS Web site. Go to http://www.acus.gov and click on Research -> Committee Meetings. Additional project information may also be found by clicking on Research -> Conference Projects.

Comments may be submitted by e-mail to Comments@acus.gov, with the name of the relevant committee in the subject line, or by postal mail to “[Name of Committee] Comments” at the address given below. To be guaranteed consideration, comments must be received five calendar days before the meeting to which they are related.

ADDRESSES: The meetings will be held at 1120 20th Street, NW., Suite 706 South, Washington, DC 20036.

FOR FURTHER INFORMATION CONTACT: The Designated Federal Officer for the individual committee (see listings below), ACUS, 1120 20th Street, NW., Suite 706 South, Washington, DC 20036; Telephone 202-480-2080.

SUPPLEMENTARY INFORMATION:

Committee on Administration and Management

The Committee on Administration and Management will meet to consider issues arising when agencies use “incorporation by reference” in regulations; i.e., when an agency regulation incorporates by reference material available elsewhere. Among other things, the committee will discuss procedural and drafting issues that arise when agencies use incorporation by reference, challenges agencies face in updating such references, and ways to ensure the reasonable availability of incorporated materials, which may be subject to copyright.

Date: Friday, October 28, 2011, from 9:30 a.m. to 12:30 p.m.

Designated Federal Officer: Scott Rafferty.

Committee on Collaborative Governance

The Committee on Collaborative Governance will consider recommending improvements to the Federal Advisory Committee Act (FACA) and the implementation of the Act. Potential issues for discussion include the chartering requirements for advisory committees; improving access to committee meetings and materials; virtual committee meetings; and other improvements that might reduce the burdens imposed by FACA or improve the transparency of FACA committees.

The Committee on Collaborative Governance may also discuss a project regarding the use of third-party certification in government inspections.

Date: Tuesday, October 18, 2011, from 1:30 p.m. to 4:30 p.m.

Designated Federal Officer: David Pritzker.

Committee on Judicial Review

The Committee on Judicial Review will discuss potential changes to 28 U.S.C. 1500, which regulates the jurisdiction of the Court of Federal Claims (CFC). The statute currently deprives the CFC of jurisdiction over a claim if the plaintiff has a claim based on the same facts pending in another court. The committee will consider whether this statute should be repealed or revised.

The committee may also consider the Congressional Review Act and agency practices under the Act.

Date: Thursday, October 27, 2011, from 1:30 p.m. to 4:30 p.m.

Designated Federal Officer: Reeve Bull.

Committee on Regulation

The Committee on Regulation will meet to consider a project concerning international regulatory cooperation. This project will examine how the Conference might update its Recommendation 91-1, “Federal Agency Cooperation with Foreign Government Regulators,” in light of developments in United States government structure, trade agreements, and technology since the recommendation was adopted 20 years ago.

Date: Tuesday, October 25, 2011, from 2 p.m. to 5 p.m.

Designated Federal Officer: Reeve Bull.

Dated: September 28, 2011.
Jonathan R. Siegel,
Director of Research and Policy.

[FR Doc. 2011-25393 Filed 9-30-11; 8:45 am]

BILLING CODE 6110-01-P